DEPARTMENT OF COMMERCE

International Trade Administration

University of Vermont; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW, Washington, DC.

Docket Number: 02-012R. Applicant: University of Vermont, Burlington, VT 05405. Instrument: Slow Scan CCD Camera System, Model TemCam-0124. Manufacturer: Tietz Video and Image Processing Systems GmbH, Germany. Intended Use: See notice at 67 FR 34903, May 16, 2002.

Comments: None received. Decision: Approved. No instrument of equivalent scientific value to the foreign instrument, for such purposes as it is intended to be used, is being manufactured in the United States. Reasons: The foreign instrument provides: (1) Superior resolution by matching the surface of the fiber optic coupling to the shape of the CCD chip surface, permitting determination of the quality of cryo samples needed to assess areas suitable for tomography and (2) accommodation for a high resolution CRT screen. The National Institutes of Health advises in its memorandum of July 16, 2002 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-20079 Filed 8-7-02; 8:45 am]

BILLING CODE 3510-DS-P